DEPARTMENT OF THE INTERIOR

Bureau of Land Management

[LLAZ956000.L14200000.BJ0000.241A]

Notice of Filing of Plats of Survey; AZ

AGENCY: Bureau of Land Management, Interior.

ACTION: Notice of filing of plats of survey; Arizona.

SUMMARY: The plats of survey of the described lands were officially filed in the Arizona State Office, Bureau of Land Management, Phoenix, Arizona, on dates indicated.

SUPPLEMENTARY INFORMATION: The Gila and Salt River Meridian, Arizona:

The plat representing the dependent resurvey of a portion of the east boundary and the Red Sky Mill Site, Mineral Survey No. 1532B, Township 15 North, Range 1 East, accepted February 27, 2009, and officially filed March 4, 2009, for Group 1041, Arizona.

This plat was prepared at the request of the United States Forest Service.

The plat representing the dependent resurvey of a portion of the north boundary and a metes-and-bounds survey in section 5, Township 5 North, Range 2 East, accepted May 27, 2009, and officially filed June 3, 2009, for Group 1054, Arizona.

This plat was prepared at the request of the Bureau of Land Management.

The plat representing the dependent resurvey of a portion of the north boundary of the Salt River Pima-Maricopa Indian Community, Township 3 North, Range 5 East, accepted December 10, 2008, and officially filed December 17, 2008, for Group 1050, Arizona.

This plat was prepared at the request of the Bureau of Indian Affairs, Western Regional Office.

The supplemental plat of sections 35 and 36, Township 3 North, Range 6 East, accepted May 20, 2009, and officially filed May 29, 2009, Arizona.

This plat was prepared at the request of the Bureau of Indian Affairs, Western Regional Office.

The plat (2 sheets) representing the dependent resurvey of a portion of the Fifth Standard Parallel North (north boundary), a portion of the subdivisional lines, and Amended HES 619, Tracts A and B, and a metes-and-bounds survey in section 3, Township 20 North, Range 7 East, accepted March 9, 2009, and officially filed March 13, 2009, for Group 1018, Arizona.

This plat was prepared at the request of the United States Forest Service.

The plat representing the dependent resurvey of a portion of the Fifth Standard Parallel North (south boundary), a portion of the subdivisional lines, the subdivision of section 33 and the metes-and-bounds surveys in section 33, Township 21 North, Range 7 East, accepted March 9, 2009, and officially filed March 13, 2009, for Group 1018, Arizona.

This plat was prepared at the request of the United States Forest Service.

The supplemental plat of the SW¼ of section 33, Township 21 North, Range 7 East, accepted May 20, 2009, and officially filed May 29, 2009, Arizona.

This plat was prepared at the request of the United States Forest Service.

The plat representing the dependent resurvey of the east, west and north boundaries, Township 33 North, Range 10 East, accepted July 28, 2009, and officially filed July 31, 2009, for Group 1059, Arizona.

This plat was prepared at the request of the Bureau of Indian Affairs, Navajo Regional Office.

The plat representing the dependent resurvey of the Eighth Standard Parallel North (south boundary), Township 33 North, Range 12 East, accepted July 28, 2009, and officially filed July 31, 2009, for Group 1059, Arizona.

This plat was prepared at the request of the Bureau of Indian Affairs, Navajo Regional Office.

The plat (2 sheets) representing the survey of the Ninth Standard Parallel North (south boundary), the east, west and north boundaries, the subdivisional lines, the subdivision of certain sections and metes-and-bounds surveys of Tracts 37 and 38, Township 37 North, Range 12 East, accepted December 4, 2008, and officially filed December 11, 2008, for Group 1028, Arizona.

This plat was prepared at the request of the Bureau of Indian Affairs, Navajo Regional Office.

The plat representing the survey of the Third Guide Meridian East (east boundary), the south, west and north boundaries, the subdivisional lines, and the subdivision of sections 13, 14 and 15, Township 22 North, Range 12½ East, and the survey of a portion of the Third Guide Meridian East (east boundary), Township 23 North, Range 12½ East, accepted November 17, 2008, and officially filed November 20, 2008, for Group 1025, Arizona.

This plat was prepared at the request of the Bureau of Indian Affairs, Navajo Regional Office.

The plat representing the survey of a portion of the Third Guide Meridian East (west boundary), Township 36 North, Range 13 East, the survey of the Third Guide Meridian East (west boundary), Township 37 North, Range 13 East, the survey of the Ninth Standard Parallel North (south boundary), the north boundary, the subdivisional lines and the subdivision of certain sections, Township 37 North, Range 12½ East, accepted January 29, 2009, and officially filed February 6, 2009, for Group 1033, Arizona.

This plat was prepared at the request of the Bureau of Indian Affairs, Navajo Regional Office.

The plat (2 sheets) representing the survey of the south, east and north boundaries, the subdivisional lines, the subdivision of certain sections and a metes-and-bounds survey in section 19, Township 22 North, Range 13 East, accepted November 17, 2008, and officially filed November 20, 2008, for Group 1025, Arizona.

This plat was prepared at the request of the Bureau of Indian Affairs, Navajo Regional Office.

The plat representing the survey of a portion of the Tenth Standard Parallel North (south boundary), Township 41 North, Range 19 East, the Fifth Guide Meridian East (east boundary), the west boundary, the subdivisional lines, the subdivision of section 6 and a metes-and-bounds survey of a portion of the Monument Valley Tribal Park (MVTP) boundary, Township 40 North, Range 20 East, accepted January 29, 2009, and officially filed February 6, 2009, for Group 1043, Arizona.

This plat was prepared at the request of the Bureau of Indian Affairs, Navajo Regional Office.

The plat (3 sheets) representing the dependent resurvey of portions of the west boundary, the Hopi-Navajo Partition Line, Segment “C”, and the boundary of Management District No. 6, Hopi Indian Reservation, and the survey of a portion of the Fifth Guide Meridian East (east boundary), the south boundary and a portion of the subdivisional lines, Township 30 North, Range 20 East, accepted June 24, 2009, and officially filed July 2, 2009, for Group 1044, Arizona.

This plat was prepared at the request of the Bureau of Indian Affairs, Western Regional Office.

The plat representing the survey of the Sixth Guide Meridian East (east boundary), Township 23 North, Range 24 East, the dependent resurvey of the north boundary, Township 22 North, Range 25 East and the survey of the north boundary, a Sectional Correction Line and the subdivisional lines, Township 23 North, Range 25 East, accepted January 29, 2009, and officially filed February 6, 2009, for Group 1039, Arizona.

This plat was prepared at the request of the Bureau of Indian Affairs, Navajo Regional Office.

The plat representing the dependent resurvey of a portion of the south boundary, Township 26 North, Range 28 East, and the dependent resurvey of the east boundary, and the survey of the subdivisional lines, Township 25 North, Range 27 East, accepted June 3, 2009, and officially filed June 10, 2009, for Group 1048, Arizona.

This plat was prepared at the request of the Bureau of Indian Affairs, Navajo Regional Office.

The plat (2 sheets) representing the dependent resurvey of the Seventh Guide Meridian East (east boundary), the west and north boundaries, and the survey of the subdivisional lines, the subdivision of certain sections, Tracts 37 and 38, and Informative Traverses, Township 41 North, Range 28 East, accepted June 3, 2009, and officially filed June 10, 2009, for Group 1045, Arizona.

This plat was prepared at the request of the Bureau of Indian Affairs, Navajo Regional Office.

The plat (4 sheets) representing the dependent resurvey of a portion of the subdivisional lines, the subdivision of certain sections and metes-and-bounds surveys, Township 21 North, Range 29 East, accepted July 28, 2009, and officially filed July 31, 2009, for Group 1042, Arizona.

This plat was prepared at the request of the Bureau of Indian Affairs, Navajo Regional Office.

The plat (2 sheets) representing the dependent resurvey of a portion of the Tenth Standard Parallel North (south boundary), Township 41 North, Range 29 East, the survey of the east boundary, a portion of the west boundary, and a portion of the subdivisional lines, the subdivision of certain sections, the metes-and-bounds surveys of Tracts 37 and 38, Township 40 North, Range 30 East, and a metes-and-bounds survey of Tract 37, Township 41 North, Range 30 East, accepted July 1, 2009, and officially filed July 10, 2009, for Group 1047, Arizona.

This plat was prepared at the request of the Bureau of Indian Affairs, Navajo Regional Office.

The supplemental plat of Tract 37 in the SE¼ of section 34 and the SW¼ of section 35, Township 41 North, Range 30 East, accepted July 1, 2009, and officially filed July 10, 2009, Arizona.

This plat was prepared at the request of the Bureau of Indian Affairs, Navajo Regional Office.

The plat representing the dependent resurvey of a portion of the original 1875 survey of the western boundary of New Mexico Territory and the dependent resurvey of the 1904 survey between the 136th and 149th mile corners, Townships 17, 18 and 19 North, Range 31 East, accepted November 5, 2008, and officially filed November 20, 2008, for Group 687, Arizona.

This plat was prepared at the request of the Bureau of Indian Affairs, Navajo Regional Office.

The plat representing the dependent resurvey of a portion of the Arizona- New Mexico State Line between the 24 mile corner and the 31 mile corner, Townships 37 and 38 North, Range 31 East, and unsurveyed Township 36 North, Range 31 East, accepted June 10, 2009, and officially filed June 24, 2009, for Group 1061, Arizona.

This plat was prepared at the request of the Bureau of Indian Affairs, Navajo Regional Office.

The plat representing the survey of Tract 37 in section 6, Township 12 North, Range 1 West, accepted April 17, 2009, and officially filed April 23, 2009, for Group 1053, Arizona.

This plat was prepared at the request of the United States Forest Service.

The plat (2 sheets) representing the dependent resurvey of a portion of the Third Standard Parallel North (south boundary), a portion of the subdivisional lines, a portion of the Fort Whipple Timber Reserve, and Patented Mining Claims, Mineral Survey Nos. 2129 and 4226, and the subdivision of sections 27, 28, 34 and 35, Township 13 North, Range 2 West, accepted June 8, 2009, and officially filed June 12, 2009, for Group 1022, Arizona.

This plat was prepared at the request of the United States Forest Service.

The plat representing the corrective dependent resurvey of a portion of Tract 37 in section 16, Township 4 North, Range 3 West, accepted June 24, 2009, and officially filed July 2, 2009, for Group 674, Arizona.

This plat was prepared at the request of the Salt River Project.

The plat representing the dependent resurvey of a portion of the north boundary, a portion of the subdivisional lines, and the subdivision of sections 5 and 6, Township 18 North, Range 5 West, accepted April 17, 2009, and officially filed April 23, 2009, for Group 1029, Arizona.

This plat was prepared at the request of the United States Forest Service.

The plat representing the dependent resurvey of a portion of the west boundary, a portion of the subdivisional lines, and the subdivision of sections 30 and 32, Township 19 North, Range 5 West, accepted April 17, 2009, and officially filed April 23, 2009, for Group 1030, Arizona.

This plat was prepared at the request of the United States Forest Service.

The plat representing the dependent resurvey of a portion of the east boundary and subdivisional lines, and the subdivision of section 1, Township 18 North, Range 6 West, accepted March 9, 2009, and officially filed March 13, 2009, for Group 1031, Arizona.

This plat was prepared at the request of the United States Forest Service.

The plat representing the dependent resurvey of a portion of the south and east boundaries and a portion of the subdivisional lines and the subdivision of section 36, Township 19 North, Range 6 West, accepted April 17, 2009, and officially filed April 23, 2009, for Group 1032, Arizona.

This plat was prepared at the request of the United States Forest Service.

The supplemental plat of section 28, Township 15 North, Range 9 West, accepted May 20, 2009, and officially filed May 29, 2009, Arizona.

This plat was prepared at the request of the Bureau of Land Management.

The plat representing the dependent resurvey of a portion of the subdivisional lines and Lot 37 (General Number 215), Township 34 North, Range 14 West, accepted May 27, 2009, and officially filed June 3, 2009, for Group 1051, Arizona.

This plat was prepared at the request of the Bureau of Land Management.

The plat representing the dependent resurvey of a portion of the Colorado River Indian Reservation Boundary, portions of the west and north boundaries and a portion of the subdivisional lines, Township 3 North, Range 20 West, accepted February 5, 2009, and officially filed February 12, 2009, for Group 1034, Arizona.

This plat was prepared at the request of the Bureau of Indian Affairs, Western Regional Office.

The plat representing the dependent resurvey of a portion of the Colorado River Indian Reservation Boundary and a portion of the subdivisional lines, Township 4 North, Range 20 West, accepted February 5, 2009, and officially filed February 12, 2009, for Group 1036, Arizona.

This plat was prepared at the request of the Bureau of Indian Affairs, Western Regional Office.

The plat (3 sheets) representing the dependent resurvey of a portion of the Colorado River Indian Reservation Boundary, portions of the west and north boundaries, a portion of the subdivisional lines and the subdivision of section 2, Township 3 North, Range 21 West, accepted February 5, 2009, and officially filed February 12, 2009, for Group 1035, Arizona.

This plat was prepared at the request of the Bureau of Indian Affairs, Western Regional Office.

The plat representing the dependent resurvey of a portion of the east boundary and the subdivision of section 36, Township 4 North, Range 21 West, accepted February 5, 2009, and officially filed February 12, 2009, for Group 1037, Arizona.

This plat was prepared at the request of the Bureau of Indian Affairs, Western Regional Office.

The plat representing the dependent resurvey of a portion of the subdivisional lines, Township 13 South, Range 11 East, accepted June 8, 2009, and officially filed June 12, 2009, for Group 1065, Arizona.

This plat was prepared at the request of the National Park Service.

The plat representing the dependent resurvey of a portion of the Second Guide Meridian East (west boundary), a portion of the north boundary, a portion of the Sectional Correction Line, a portion of the subdivisional lines and the subdivision of section 9, Township 14 South, Range 11 East, accepted June 24, 2009, and officially filed July 2, 2009, for Group 1056, Arizona.

This plat was prepared at the request of the Bureau of Indian Affairs, Western Regional Office.

The plat representing the dependent resurvey of a portion of the subdivisional lines, Township 3 South, Range 12 East, accepted April 6, 2009, and officially filed April 9, 2009, for Group 1040, Arizona.

This plat was prepared at the request of the Bureau of Land Management.

The plat representing the dependent resurvey of a portion of the north boundary and a portion of the subdivisional lines, Township 4 South, Range 12 East, accepted April 6, 2009, and officially filed April 9, 2009, for Group 1040, Arizona.

This plat was prepared at the request of the Bureau of Land Management.

The plat representing the dependent resurvey of a portion of the subdivisional lines, Township 4 South, Range 13 East, accepted April 6, 2009, and officially filed April 9, 2009, for Group 1040, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427.

Dated: August 6, 2009.
Stephen K. Hansen,
Chief Cadastral Surveyor of Arizona.

[FR Doc. E9-19503 Filed 8-13-09; 8:45 am]

BILLING CODE 4310-32-P